DEPARTMENT OF ENERGY

Federal Energy Regulatory Commission

[Project No. 13458-001]

BOST1 Hydroelectric LLC; Notice of Intent To File License Application, Filing of Pre-Application Document, and Approving Use of the Traditional Licensing Process

a. Type of Filing: Notice of Intent to File License Application and Request to Use the Traditional Licensing Process.

b. Project No.: 13458-001.

c. Date Filed: March 21, 2012.

d. Submitted By: BOST1 Hydroelectric LLC (BOST1).

e. Name of Project: Coon Rapids Dam Hydroelectric Project.

f. Location: Mississippi River in Hennepin and Anoka counties, Minnesota at the existing Coon Rapids Dam which is owned and operated by the Three Rivers Park District.

g. Filed Pursuant to: 18 CFR 5.3 of the Commission's regulations.

h. Potential Applicant: Mr. Douglas A. Spaulding, P.E., Nelson Energy LLC, 8441 Wayzata Blvd., Suite 101, Golden Valley, MN 55426; (952) 544-8133.

i. FERC Contact: Lesley Kordella at (202) 502-6406; or email at lesley.kordella@ferc.gov.

j. BOST1 Hydroelectric LLC filed a request to use the Traditional Licensing Process on March 21, 2012. BOST1 Hydroelectric LLC provided public notice of the request on April 4, 2012. In a letter dated May 17, 2012, the Director of the Division of Hydropower Licensing approved the request to use the Traditional Licensing Process.

k. With this notice, we are initiating informal consultation with: (a) The U.S. Fish and Wildlife Service and/or NOAA Fisheries under section 7 of the Endangered Species Act and the joint agency regulations thereunder at 50 CFR, Part 402; (b) NOAA Fisheries under section 305(b) of the Magnuson-Stevens Fishery Conservation and Management Act and implementing regulations at 50 CFR 600.920; and (c) the Minnesota State Historic Preservation Officer, as required by section 106, National Historical Preservation Act, and the implementing regulations of the Advisory Council on Historic Preservation at 36 CFR 800.2.

l. BOST1 Hydroelectric LLC filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number (P-13458), excluding the last three digits in the docket number field to access the document. For assistance, contact FERC Online Support at FERCONlineSupport@ferc.gov or toll free at 1-866-208-3676, or for TTY, (202) 502-8659. A copy is also available for inspection and reproduction at the address in paragraph h.

n. Register online at http://www.ferc.gov/docs-filing/esubscription.asp to be notified via email of new filing and issuances related to this or other pending projects. For assistance, contact FERC Online Support.

Dated: June 1, 2012.
Kimberly D. Bose,
Secretary.

[FR Doc. 2012-13881 Filed 6-7-12; 8:45 am]

BILLING CODE 6717-01-P